DEPARTMENT OF THE INTERIOR

Fish and Wildlife Service

Proposed Safe Harbor Agreement (SHA) for Northern Idaho Ground Squirrels, Adams County, ID

AGENCY: Fish and Wildlife Service, Interior.

ACTION: Notice of availability: environmental action statement (EAS); receipt of application for a permit to enhancement of survival (EOS) permit/SHA.

SUMMARY: We, the U.S. Fish and Wildlife Service (Service), announce receipt of an application for a 20-year EOS permit pursuant to section 10(a)(1)(A) of the Endangered Species Act of 1973, as amended (Act), from Bob Mack and Carolyn Williams (applicants). The permit application includes a proposed 3-year SHA between the applicants and us. We are accepting comments on the SHA, permit application, and EAS.

DATES: Written comments should be received on or before July 9, 2007.

ADDRESSES: Address your comments to Carmen Thomas, Project Biologist, Fish and Wildlife Service, 1387 S. Vinnell Way, Room 368, Boise, ID 83709 (telephone: 208-378-5243; facsimile: 208-378-5262).

FOR FURTHER INFORMATION CONTACT: Carmen Thomas at the above address or by telephone at 208-378-5243.

SUPPLEMENTARY INFORMATION:

Document Availability

You may obtain copies of the documents for review by contacting the individual named above. You also may make an appointment to view the documents at the above address during normal business hours. The documents are also available electronically on the World Wide Web at http://www.fws.gov/idahoes.

Public Availability of Comments

Before including your address, phone number, e-mail address, or other personal identifying information in your comment, you should be aware that your entire comment—including your personal information—may be made publicly available at any time. While you can ask us in your comment to withhold your personal identifying information from public review, we cannot guarantee that we will be able to do so.

Background

Under SHAs, participating property owners voluntarily undertake management activities on their properties to enhance, restore, or maintain habitat benefitting species listed under the Act (16 U.S.C. 1531 et seq.). SHAs encourage private and other non-Federal property owners to implement conservation efforts for listed species by assuring property owners they will not be subjected to increased property use restrictions if their efforts attract listed species to their property or increase the numbers or distribution of listed species already on their property. Application requirements and issuance criteria for EOS permits through SHAs are in 50 CFR 17.22(c).

This proposed SHA would allow for management and conservation of the threatened northern Idaho ground squirrel (Spermophilus brunneus brunneus) on approximately 9 acres (ac) (3.6 hectares (ha)) of private land owned by the applicants approximately 5.5 miles (mi) (8.9 kilometers (km)) northwest of New Meadows, Idaho. Northern Idaho ground squirrels currently occupy less than 2 of the 9 ac (3.6 ha). This 2-ac (0.8-ha) protected area would have a baseline greater than zero (0), and no incidental take would be authorized under the permit within this area. The SHA allows us to carry out a variety of conservation measures within the 2-ac (0.8-ha) protected area to benefit conservation of northern Idaho ground squirrels. Within the 7 ac (3.6 ha) outside of the 2-ac (0.8-ha) protected area, the permit would authorize the applicants to return to the existing baseline conditions of zero (0) northern Idaho ground squirrels. This SHA is intended to result in a net conservation benefit by enhancing northern Idaho ground squirrel habitat within the 2-ac (0.8-ha) protected area, and expanding the northern Idaho ground squirrel population to lands outside the protected area. Under the proposed SHA, the applicants would: (1) Protect 2 ac (0.8 ha) of occupied, suitable northern Idaho ground squirrel habitat from land use activities that may result in “take” of ground squirrels; (2) allow Service personnel access to the property to conduct ground squirrel conservation activities such as habitat enhancement, artificial feeding, ground squirrel surveys, and translocation of excess ground squirrels, should the current population expand beyond the 2-ac (0.8-ha) protected area; (3) if appropriate, in cooperation with the Service, develop signs to discourage shooting of ground squirrels; and (4) work cooperatively with the Service on other issues necessary to further the purposes of the SHA.

Threats to the northern Idaho ground squirrel include: habitat loss due to seral forest encroachment into suitable meadow habitats, competition from Columbian ground squirrels (Spermophilus columbianus), land use changes, recreational shooting, and naturally occurring events. The SHA is intended to provide a net conservation benefit to northern Idaho ground squirrels by providing measures for ground squirrel habitat protection and enhancement, managing competition from Columbian ground squirrels, and controlling recreational shooting. The biological goal of ground squirrel conservation measures in the SHA is to expand the northern Idaho ground squirrel population at this site beyond the 2-ac (0.8-ha) protected area by reducing threats to the species. The SHA is intended to contribute to recovery of northern Idaho ground squirrels by reducing threats and expanding the ground squirrel population at this site. Recovery of the species is intended to be enhanced by increasing the viability of the population at this site and potentially allowing ground squirrels to be translocated to other sites in need of population supplementation.

Consistent with the Service's Safe Harbor policy, under the SHA, we would issue a permit to the applicants authorizing incidental take of northern Idaho ground squirrels, as a result of activities on 7-ac (3.6-ha) of their property, outside the 2-ac (0.8-ha) protected area. These activities include use and maintenance of the applicants' house and garage; operation and maintenance of a well, underground power and telephone lines, septic system/drainfield, and other required utilities; and operation of cars and trucks on the driveway and all-terrain vehicles on the property outside the protected area. The maximum level of incidental take authorized under the proposed SHA may never be realized. The level of incidental take would be dependent on if, and how rapidly, northern Idaho ground squirrels expand beyond the 2-ac (0.8-ha) protected area.

We have made a preliminary determination that the proposed SHA and permit application are eligible for categorical exclusion under the National Environmental Policy Act of 1969. We explain the basis for this determination in an EAS, which also is available for public review.

We provide this notice pursuant to section 10(c) of the Act and pursuant to implementing regulations for the National Environmental Policy Act (NEPA) (40 CFR 1506.6). We will evaluate the permit application, associated documents, and comments submitted thereon to determine whether the permit application meets the requirements of section 10(a) of the Act and NEPA regulations. If we determine that the requirements are met, we will sign the proposed SHA and issue an EOS permit under section 10(a)(1)(A) of the Act to the applicants for take of northern Idaho ground squirrels incidental to otherwise lawful activities in accordance with the terms of the SHA. We will not make our final decision until after the end of the 30-day comment period and will fully consider all comments received during the comment period.

Dated: June 1, 2007.
Jeffery L. Foss,
Field Office Supervisor, Fish and Wildlife Service,Boise, Idaho.

[FR Doc. E7-10978 Filed 6-6-07; 8:45 am]

BILLING CODE 4310-55-P